DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in Seattle and King County, WA. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation projects will be barred unless the claim is filed on or before August 21, 2017.

FOR FURTHER INFORMATION CONTACT: Nancy-Ellen Zusman, Assistant Chief Counsel, Office of Chief Counsel, (312) 353-2577 or Meghan Kelley, Environmental Protection Specialist, Office of Environmental Programs, (202) 366-6098. FTA is located at 1200 New Jersey Avenue SE., Washington, DC 20590. Office hours are from 9:00 a.m. to 5:00 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA administrative record for the projects. Interested parties may contact either the project sponsor or the relevant FTA Regional Office for more information. Contact information for FTA's Regional Offices may be found at https://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: Seattle Center City Connector Project, Seattle, WA. Project sponsor: Seattle Department of Transportation (SDOT). Project description: The proposed project would create 1.25 miles of new trackway linking the existing South Lake Union and First Hill Streetcar lines, operating in public streets in Seattle's downtown commercial district. The route would start at the Westlake Intermodal Hub at Westlake Avenue and Sixth Avenue North, head south and turn west onto Stewart Street to First Avenue, and continue south along First Avenue to connect with the First Hill Streetcar Station at South Jackson Street and Occidental Avenue South. Final agency actions: Section 4(f) de minimis impact determination; Section 106 finding of no adverse effect; project-level air quality conformity; and a Finding of No Significant Impact, dated February 16, 2017. Supporting Documentation: Environmental Assessment, dated March 2016.

2. Project name and location: Federal Way Link Extension Project, King County, WA. Project sponsor: Central Puget Sound Regional Transit Authority (Sound Transit). Project description: The proposed project would extend the Sound Transit Link light rail system by 7.8 miles from Angle Lake Station in SeaTac south through Des Moines and Kent, terminating in Federal Way. The route would travel along the west side of Interstate 5 and would include stations at Kent/Des Moines near Highline College, South 272nd Street, and the Federal Way Transit Center. Final agency actions: No use determination of Section 4(f) resources; Section 106 finding of no historic properties affected; project-level air quality conformity; and a Record of Decision, dated March 6, 2017. Supporting Documentation: Final Environmental Impact Statement, dated November 18, 2016.

Lucy Garliauskas,
Associate Administrator Planning and Environment.

[FR Doc. 2017-05635 Filed 3-21-17; 8:45 am]

BILLING CODE P